ENVIRONMENTAL PROTECTION AGENCY

[EPA-HQ-OAR-2016-0094-0094; FRL-10214-01-OAR]

Proposed Information Collection Request; Comment Request; Information Collection for Importation of On-Highway Vehicles and Motorcycles and Nonroad Engines, Vehicles, and Equipment; EPA ICR Number 2583.03, OMB Control Number 2060-0717

AGENCY: Environmental Protection Agency (EPA).

ACTION: Notice.

SUMMARY: The Environmental Protection Agency (EPA) is planning to submit an Information Collection Request (ICR) “Importation of On-highway Vehicles and Motorcycles and Nonroad Engines, Vehicles, and Equipment” to the Office of Management and Budget (OMB) for review and approval in accordance with the Paperwork Reduction Act. Before doing so, EPA is soliciting comments on specific aspects of the proposed information collection as described below. This is a proposed extension of the current ICR, which is approved through July 31, 2023. An agency may not conduct or sponsor, and a person is not required to respond to a collection of information unless it displays a currently valid OMB control number.

DATES: Comments must be submitted on or before December 5, 2022.

ADDRESSES: Submit your comments referencing Docket ID No. EPA-HQ-OAR-2016-0094 online using www.regulations.gov (our preferred method), by email to a-and-r-Docket@epa.gov or by mail to: EPA Docket Center, Environmental Protection Agency, Mailcode 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Holly Pugliese, Compliance Division, Office of Transportation and Air Quality, Environmental Protection Agency, 2000 Traverwood, Ann Arbor, Michigan 48105; telephone number: 734-214-4288; fax number: 734-214-4869; email address: pugliese.holly@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The Clean Air Act requires that on-highway vehicles and motorcycles, and nonroad vehicles, engines and equipment imported into the U.S. either comply with applicable emission requirements or qualify for an applicable exemption or exclusion. The Compliance Division (CD) in the EPA's Office of Air and Radiation maintains and makes available instruments to importers to help facilitate importation of products at U.S. borders. EPA Form 3520-1 is used by importers of on-highway vehicles and motorcycles, and EPA Form 3520-21 is used by importers of nonroad vehicles, engines and equipment.

For most imports, U.S. Customs and Border Protection (CBP) regulations require that EPA Declaration Forms 3520-1 and 3520-21 be filed with CBP at the time of entry. EPA makes both forms available on our website in fillable PDF format (http://www.epa.gov/importing-vehicles-and-engines/publications-and-forms-importing-vehicles-and-engines). EPA does not require that the forms be submitted directly to EPA. Rather, these forms are used by CBP to facilitate the importation process at U.S. borders. EPA does require that the forms be kept by importers for a period of five years after importation to assist EPA's Office of Enforcement and Compliance Assurance (OECA) and CBP should any issues arise with any given importation.

In addition, this ICR covers the burden of EPA Form 3520-8 which EPA makes available upon request and is used by Independent Commercial Importers (ICIs), who bring on-highway vehicles into compliance and provide emissions test results, to request final importation clearance for their on-highway vehicles.

Since 2016, CBP has been using the Automated Commercial Environment (ACE) to facilitate the electronic filing of imports documents rather than collecting paper. ACE has become the primary system through which the trade community and other importers report imports and exports. Through ACE as the single point of submission, manual processes have been streamlined and automated, and paper submissions (e.g., fillable PDFs) have been significantly reduced. The information detailed on both EPA forms has been incorporated into ACE. Rather than file hard copy forms, importers will log into ACE and check boxes that correspond to information elements currently found on the forms. Filers using the ACE interface will also receive transaction information that will be kept by the filer. However, EPA will continue to maintain the forms on our website in fillable PDF format. Although importers are expected to use the ACE interface to submit information, the PDF versions of the form can also be submitted directly into ACE by importers.

Form Numbers: 3520-1, 3520-21, 3520-8.

Frequency of response: Once per entry. (One form per shipment may be used.)

Respondents/affected entities: Information collected is from individual importers, or companies who import and/or manufacture on-highway vehicles and motorcycles and nonroad engines, vehicles, and equipment.

Respondent's obligation to respond: Required for any importer to legally import on-highway vehicles and motorcycles and nonroad engines, vehicles, and equipment vehicles or engines into the U.S.

Estimated number of respondents: 14,810.

Total estimated burden: 81,985 hours (per year). Burden is defined at 5 CFR 1320.03(b).

Total estimated cost: $8,009,549 (per year).

Changes in estimates: The number of entries (forms filed with CBP) has increased from approximately 160,000 per year to approximately 260,000 per year. Therefore, the total estimated cost has increased by approximately $3,764,850 compared with the ICR currently approved by OMB. This is due to the increased number of forms filed and a slight increase in labor costs. Total burden hours remain unchanged.

Byron Bunker,
Director, Compliance Division, Office of Transportation and Air Quality.

[FR Doc. 2022-21589 Filed 10-4-22; 8:45 am]

BILLING CODE 6560-50-P